Title 3—

The President

Proclamation 9769 of July 25, 2018

Anniversary of the Americans with Disabilities Act, 2018

By the President of the United States of America

A Proclamation

On the 28th anniversary of the Americans with Disabilities Act (ADA), we celebrate this historic legislation, which echoed our Nation's founding promise to recognize and secure the equal rights of all men and women. Today, we reaffirm our commitment to cultivate further opportunities for all Americans to live full and independent lives, and recognize the many contributions enabled by expanded participation of Americans with disabilities in our society.

President George H.W. Bush signed the ADA into law on July 26, 1990. It has transformed the lives of millions of Americans living with disabilities by promoting their equal access to employment, government services, public accommodations, commercial facilities, and public transportation. Today, people of all ages with disabilities are better able to thrive in the community, pursue careers, contribute to our economy, and fully participate in American society.

Our Nation must continue to build upon this foundation and continue to further the participation of the more than 56 million Americans living with disabilities. My Administration continues to encourage research that will lead to advancements in technology, medicine, and other fields and better enable independent living. We are also expanding and promoting equal education and employment opportunities for Americans with disabilities to live and work. In this regard, in June of last year, I signed an Executive Order to develop more apprenticeship programs for all people, including those with disabilities. Additional training will encourage better involvement from businesses and allow people with disabilities to contribute meaningfully to a wide variety of industries.

As we commemorate the anniversary of the ADA, we recommit ourselves to fostering an environment in which all Americans have the opportunity to pursue the American Dream.

NOW, THEREFORE, I, DONALD J. TRUMP, President of the United States of America, by virtue of the authority vested in me by the Constitution and the laws of the United States, do hereby proclaim July 26, 2018, as a day in celebration of the 28th Anniversary of the Americans with Disabilities Act. I call upon all Americans to observe this day with appropriate ceremonies and activities that celebrate the contributions of Americans with disabilities and to renew our commitment to achieving the promise of our freedom for all Americans.

IN WITNESS WHEREOF, I have hereunto set my hand this twenty-fifth day of July, in the year of our Lord two thousand eighteen, and of the Independence of the United States of America the two hundred and forty-third.

[FR Doc. 2018-16429

Filed 7-27-18; 11:15 am]

Billing code 3295-F8-P